EQUAL EMPLOYMENT OPPORTUNITY COMMISSION

SES Performance Review Board

ACTION: Notice of Members of the U.S. Equal Employment Opportunity Commission Performance Review Board (PRB).

SUMMARY: Pursuant to 5 U.S.C. 4314(c)(4), this notice announces the appointment of members of the PRB for the Equal Employment Opportunity Commission (EEOC). The Board reviews the performance appraisals of career and non-career senior executives. The Board makes recommendations regarding proposed performance appraisals, ratings, bonuses and other appropriate personnel actions.

FOR FURTHER INFORMATION CONTACT: Angelica E. Ibarguen, Chief Human Capital Officer, Equal Employment Opportunity Commission, 1801 L Street, NW., Washington, DC 20507, (202) 663-4306.

Composition of PRB: The Board shall consist of at least three voting members. When appraising a career appointee's performance or recommending a career appointee for a performance award, more than half of the members must be SES career appointees. The names and titles of the PRB members are as follows:

Primary Members

Angelica E. Ibarguen, Chief Human Capital Officer, EEOC—(Chairperson), Reuben Daniels, Jr., Director, Charlotte District Office, EEOC—(Member), James L. Lee, Deputy General Counsel, EEOC—(Member).

DATES: Membership is effective on the date of this notice.

Signed at Washington, DC on this 22nd day of November 2004.
For the Commission.
Cari M. Dominguez,
Chair.

[FR Doc. 04-27855 Filed 12-20-04; 8:45 am]

BILLING CODE 6570-01-M